DEPARTMENT OF TRANSPORTATION

Coast Guard

33 CFR Part 117

[CGD13-01-022]

Drawbridge Operations Regulations; Lake Washington, WA

AGENCY: Coast Guard, DOT.

ACTION: Notice of temporary deviation from regulations.

SUMMARY: The Commander, Thirteenth Coast Guard District has issued a temporary deviation from the regulations governing the operation of the Evergreen Point Floating Drawbridge on State Route 520 across Lake Washington between Seattle and Bellevue, Washington. This deviation allows the Washington Department of Transportation (WSDOT) to close the floating retractable span from 12:01 a.m. on August 13 to 12:01 a.m. on October 8, 2001. Normally, the draw does not open between the hours of 5 a.m. and 9 p.m. Monday through Friday, except federal holidays. This deviation allows the bridge owner to bolt the floating span closed to immobilize it for center-lock replacement and other refurbishment.

EFFECTIVE DATE: This deviation is effective from 12:01 a.m. on August 13 to 12:01 a.m. on October 8, 2001.

ADDRESSES: Unless otherwise noted, documents referred to in this notice are available for inspection and copying at Commander (oan), Thirteenth Coast Guard District, 915 Second Avenue, Seattle, Washington 98174-1067, room 3510 between 7:45 a.m. and 4:15 p.m., Monday through Friday, except federal holidays. The Bridge Section of the Aids to Navigation and Waterways Management Branch maintain the docket for this temporary deviation.

FOR FURTHER INFORMATION CONTACT: Austin Pratt, Chief, Bridge Section, Aids to Navigation and Waterways Management Branch, Telephone (206) 220-7282.

SUPPLEMENTARY INFORMATION: The Evergreen Point Floating

Bridge across Lake Washington at Seattle, Washington, provides no vertical clearance at the draw span when it is closed. Fixed transition spans from the floating portion of the bridge provide navigational openings. The West Fixed Span provides 45 feet of vertical clearance at all lake levels. The East Fixed Span has a gradient so that on the low (west margin) 57 feet is provided up to 64 feet on the side opposite (east margin). Most of the vessels that ply Lake Washington can pass safely under the fixed transition spans. The number of draw openings have decreased so that the span has opened as little as 10 times annually in recent years. Most of these openings have been for construction equipment serving other WSDOT projects. State Route 520 is a major commuter route with a high daily traffic count. This deviation allows WSDOT to refurbish the bridge as quickly as possible without disrupting roadway traffic. Furthermore, this drawbridge is vulnerable to water and wind pressure because of its floating nature. This closure also facilitates completion of work at a time of year when these weather factors are minimal.

This temporary deviation, authorized under 33 CFR 117.35, allows the floating drawspan to remain closed from 12:01 a.m. on August 13 to 12:01 a.m. on October 8, 2001.

Dated: September 25, 2001.
Erroll Brown,
Rear Admiral, U.S. Coast Guard, Commander, Thirteenth Coast Guard District.

[FR Doc. 01-25288 Filed 10-5-01; 8:45 am]

BILLING CODE 4910-15-P